DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and Title 30 of the Code of Federal Regulations Part 44 govern the application, processing, and disposition of petitions for modification. This notice is a summary of petitions for modification submitted to the Mine Safety and Health Administration (MSHA) by the parties listed below.

DATES: All comments on the petitions must be received by MSHA's Office of Standards, Regulations, and Variances on or before August 22, 2016.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2016-021-C.

Petitioner: The Marshall County Coal Company, 57 Goshorn Woods Road, Cameron, West Virginia 26033.

Mine: Marshall County Mine, MSHA I.D. No. 46-01437, located in Marshall County, West Virginia.

Regulation Affected: 30 CFR 77.1914(a) (Electrical equipment).

Modification Request: The petitioner requests a modification of the existing standard to permit the use of 480-volt, three-phase, alternating current submersible pumps to dewater completed ventilation shafts prior to being put into service. The petitioner states that:

(1) The three-phase, 480-volt alternating current electric power circuit for the pump will be designed and installed to:

(a) Contain either a direct or derived neutral wire that will be grounded through a suitable resistor at the source transformer or power center and through a grounding circuit originating at the ground side of the grounding resistor, which will extend along with the power conductor and serve as the grounding conductor for the frame of the pump and all associated electric equipment that may be supplied power from this circuit.

(b) Contain a grounding resistor that limits the ground-fault current to not more than 25 amperes.

(c) The grounding resistor(s) will be rated for the maximum fault current available and will be insulated from ground for a voltage equal to the phase-to-phase voltage of the system.

(2) The 480-volt pump circuit will have a suitable circuit interrupting device of adequate interrupting capacity, with devices to protect against under-voltage, grounded phase, short-circuit, and overload.

(3) The under-voltage protection device will operate on a loss-of-voltage to prevent automatic restarting of the equipment.

(4) The grounded phase protection will be provided as follows:

(a) The grounded phase protection device will be set not to exceed 40 percent of the current rating of the neutral grounding resistor.

(b) The 480-volt circuit will also have an undercurrent relay device to prevent closing the breaker when a phase to ground fault condition exists on the system, and a test circuit that will inject a test current through the grounded phase current transformer.

(5) The short-circuit protection device will be set not to exceed the required short-circuit protection for the power cable or 75 percent of the minimum available phase-to-phase short-circuit current, whichever is less.

(6) The circuit will include a disconnecting device located on the surface and installed in conjunction with the circuit breaker to provide a means for visual evidence that the power is disconnected from the pump circuits, and a means to lock and tag-out the system.

(7) The pump power system will include a fail-safe ground check circuit, or other no less effective device approved by MSHA that will cause the circuit breaker to open when either the ground or pilot wire is broken. A manually operated test switch will be provided to verify the operation ground check device. The device will be installed and maintained operable to monitor the ground continuity from the starter box to the pump.

(8) The pump(s) electric control circuit(s) will be designed and installed so that the pump(s) cannot start and/or run in the automatic mode if the water is below the low-water probe level. The low-water probe will be positioned to maintain at least 12 inches above the inlet of the pump and electrical connections of the pump motor. The low-water probe will be suitable for submersible pump control application. All probe circuits will be intrinsically safe. A motor controller will be provided and used for pump startup and shutdown.

(9) The pump installation will be equipped with a water level indicator at the pump circuit controls such that a miner can determine the water level is above the pump inlet and electrical connectors.

(10) The surface pump(s) control and power circuits will be examined as required by 30 CFR 77.502, as follows:

(a) A record of the examinations will be kept in accordance with 30 CFR 77.502 and 77.502-2.

(b) The examinations will include a functional test of the grounded phase protective device(s) to determine proper operation.

(c) A record of the functional tests will be recorded in an electrical equipment record book.

(d) Prior to placing the pump into service an electrical examination will be performed.

(e) Methane checks will be made at the collar of the borehole prior to energizing the pump. The pump will not be energized if 1.0 percent or greater of methane is detected.

(11) The power cable to the submersible pump motor will be suitable for this application and have a current carrying capacity not less than 125 percent of the full load current of the submersible pump motor and an outer jacket suitable for a “wet location”.

(12) Splices and connections made in submersible pump cable will be made in a workmanlike manner and will meet the requirements of 30 CFR 75.604. The pump installations will comply with all other applicable 30 CFR requirements.

(13) The District Manager (DM) will be notified prior to dewatering any shaft using a nonpermissible submersible pump, and the required shaft plan will include this notification.

(14) Within 60 days after this petition for modification is granted, the petitioner will submit proposed revisions for their approved part 48 training plan to the DM. The proposed revisions will specify task training for all qualified electricians who perform electric work and monthly electric examinations as required by 30 CFR 77.502 and refresher training regarding the alternative method outlined in the petition and the terms and conditions stated in the Proposed Decision and Order. The training will include the following elements:

(a) The hazards that could exist if the water level falls below the pump inlet or the electric connections of the pump motor.

(b) The safe restart procedures, which will include the miner determining that the water level is above the pump inlet and pump motor prior to attempting to establish power and start the pump motor.

(15) The procedures of 30 CFR 48.3 for approval of proposed revisions to already approved training plans will apply.

The petitioner further states that:

1. Upon completion of excavation/construction of a shaft, the shaft begins to accumulate water and personnel are never required to go below the collar of the shaft for dewatering purposes.

2. In case there is a blind drilled shaft, the shaft is fully lined with steel casing and is grouted in place. This steel casing and grout seal isolates the completed blind drilled shaft from any coal seams, mitigating any possibility for methane to enter the blind drilled shaft.

3. In the case of a conventionally constructed shaft, ventilation devices are installed to ensure that potential methane accumulations are mitigated. Dewatering significantly minimizes the chance of these devices becoming compromised. The electric motor of any submersible pump is located below the pump intake making it impossible for the motor to be above the surface of the water.

4. Currently there are no electric submersible motor/pump assemblies manufactured that will effectively pump water at the current and future depths of mine workings that are permissible as required by 30 CFR 77.1914(a).

5. The alternative method outlined in this petition is consistent with prudent engineering design pursuant to 30 CFR 77.1900 since it minimizes the hazards to those employed in the initial or subsequent development of the shaft.

The petitioner asserts that the proposed alternative method will at all times guarantee no less than the same measure of protection afforded by the existing standard.

Docket Number: M-2016-022-C.

Petitioner: ACI Tygart Valley, 1200 Tygart Drive, Grafton, West Virginia 26354.

Mine: Leer Mine, MSHA I.D. No. 46-09192, located in Taylor County, West Virginia.

Regulation Affected: 30 CFR 75.1904(b)(6) (Underground diesel fuel tanks and safety cans).

Modification Request: The petitioner requests a modification of the existing standard to permit an alternative method of compliance to allow the use of a Brookville diesel motor in a dual role as a motor/diesel fuel transportation unit.

The petitioner seeks modification of the existing standard as it applies to the requirement for a shut-off valve in the return line from the motor's engine back to the fuel tank. Use of a shut-off valve in the return line may pose a risk to the motor's operation and emissions and is not related to fuel dispensing. All other required shut-off valves are installed on the connections as close as practicable to the tank's shell. The petitioner proposes to:

(1) Equip the Brookville diesel motor with a fuel tank constructed of 3/16-inch steel plates designed to serve as both the motor's fuel tank and fuel dispensing tank. The tank is equipped with a pump that can only dispense 50 percent of the tank's capacity, which will ensure the motor's fuel supply cannot be completely depleted.

(2) Shut off the motor's engine during the fueling process to eliminate unnecessary idling. The 8-gallons per minute fuel dispensing pump will operate using a separate battery power source that has been added to supply pump power. The fuel dispensing hose is a 50-foot hose with a no-latch open device and a self-closing valve. There is a power supply switch at the pump's nozzle storage bracket as well as an emergency shut-off switch located above the fuel tank. The emergency switch is protected by a cover that automatically ensures that the switch is in the off position any time the cover is closed.

(3) Post the following fueling procedures on the fuel tank:

—Make sure the fueling sign is hung and the motor's engine is shut off.

—Inspect fire extinguishers prior to beginning the fueling process.

—Ensure that fire extinguishers are located outby the fueling point.

—Verify fuel hose, equipment, etc. are in good condition.

—Test for methane in the atmosphere.

—Check for potential ignition sources and other hazards in the area.

—Notify the mine dispatcher before starting.

—Unlock and open the emergency shut-off switch.

—Check for any spills after the fueling is complete.

—Shut off the emergency switch and close locked cover.

—Notify the mine dispatcher after completion.

(4) Equip the tank with a 4-inch vent designed to open at a pressure not to exceed 2.5 pounds per square inch, as required by 30 CFR 75.1904(b).

(5) Identify and mark tank openings and pressure-test the tank, fittings and components.

(6) Equip the pump dispensing line and fuel supply lines with shut-off valves, as required by 30 CFR 75.1904(b)(6).

(7) Equip the pump dispensing line with an anti-siphoning device, as required by 30 CFR 75.1905(b)(iii).

(7) Provide the pump dispensing line with a self-closing valve with no latch- open device, as required by 30 CFR 75.1905(b)(3)(ii).

(8) Install additional fire suppression and detection to ensure that the system protects and meets all of the requirements of 30 CFR 75.1911.

Petitioner states that at no time will the motor be operated unattended, in accordance with 30 CFR 75.1916(e).

Within 60 days after the Proposed Decision and Order (PDO) becomes final, the petitioner will submit proposed revisions for its approved part 48 training plan to the DM. The proposed revisions will include initial and refresher training regarding compliance with the terms and conditions of the PDO.

The petitioner asserts that the proposed alternative method will at all times guarantee no less than the same measure of protection afforded by the existing standard.

Docket Number: M-2016-023-C.

Petitioner: UtahAmerican Energy, Inc., 794 North “C” Canyon Road, P.O. Box 910, East Carbon, Utah 84520.

Mine: Lila Canyon Mine, MSHA I.D. No. 42-02241, located in Carbon County, Utah.

Regulation Affected: 30 CFR 75.1002(a) (Installation of electric equipment and conductors; permissibility).

Modification Request: The petitioner requests a modification of the existing standard to permit the use of low-voltage or battery-powered nonpermissible electronic testing and diagnostic equipment within 150 feet of pillar workings or longwall faces. The petitioner states that:

(1) The use of nonpermissible low-voltage or battery-powered electronic testing and diagnostic equipment will be limited to: Laptop computers; oscilloscopes; vibration analysis machines; cable fault detectors; point temperature probes; infrared temperature devices; insulation testers (meggers); voltage, current and power measurement devices and recorders; pressure and flow measurement devices; signal analyzer devices; ultrasonic thickness gauges; electronic components testers; and electronic tachometers. Other testing and diagnostic equipment may be used if approved in advance by MSHA's District Manager.

(2) Nonpermissible electronic testing and diagnostic equipment will be used only when equivalent permissible equipment does not exist.

(3) All other testing and diagnostic equipment used within 150 feet of pillar workings or longwall faces will be permissible.

(4) All nonpermissible low-voltage or battery-powered nonpermissible electronic testing and diagnostic equipment used within 150 feet of pillar workings will be examined by a qualified person as defined in 30 CFR 75.153 prior to use to ensure the equipment is being maintained in a safe operating condition. These examination results will be recorded in the weekly examination electrical equipment book and made available to MSHA on request.

(5) A qualified person as defined in 30 CFR 75.151 will continuously monitor for methane immediately before and during the use of nonpermissible electronic testing and diagnostic equipment within 150 feet of pillar workings.

(6) Nonpermissible electronic testing and diagnostic equipment will not be used if methane is detected in concentrations at or above one percent. When 1.0 percent or more of methane is detected while the nonpermissible electronic equipment is being used, the equipment will be deenergized immediately and the nonpermissible electronic equipment will be withdrawn to outby 150 feet from pillar workings.

(7) All hand-held methane detectors will be MSHA-approved and maintained in permissible and proper operating condition as required by 30 CFR 75.320.

(8) Except for time necessary to troubleshoot under actual mining conditions, coal production on the section will cease. However, coal may remain in the panline to test and diagnose the equipment under load.

(9) Nonpermissible electronic testing and diagnostic equipment will not be used to test equipment when float coal dust is in suspension.

(10) All electronic testing and diagnostic equipment will be used in accordance with the safe use procedures recommended by the manufacturer.

(11) Qualified personnel who use electronic testing and diagnostic equipment will be properly trained to recognize the hazards and limitations associated with use of the equipment.

(12) The nonpermissible low-voltage or battery-powered nonpermissible electronic testing and diagnostic equipment will not be put into service until MSHA has inspected the equipment and determined that it is in compliance with all the terms and conditions in this petition. The petitioner will notify MSHA before additional nonpermissible electronic testing and diagnostic equipment is put into service within 150 feet of pillar workings to provide time for MSHA to inspect the equipment before initial use.

(13) Cables supplying power to low-voltage testing and diagnostic equipment will be continuous in length or provided with “twist lock” connectors when used with 150 feet of pillar workings.

The petitioner asserts that application of the existing standard will result in a diminution of safety to the miners and that the proposed alternative method will at all times guarantee no less than the same measure of protection afforded by the existing standard.

Sheila McConnell,
Director, Office of Standards, Regulations, and Variances.

[FR Doc. 2016-17174 Filed 7-20-16; 8:45 am]

BILLING CODE 4520-43-P